DEPARTMENT OF TRANSPORTATION

Coast Guard

33 CFR Part 160

[USCG-2001-10689]

RIN 2115-AG24

Temporary Requirements for Notification of Arrival in U.S. Ports

AGENCY: Coast Guard, DOT.

ACTION: Temporary final rule; request for comments.

SUMMARY: To ensure public safety and security and to ensure the uninterrupted flow of commerce, the Coast Guard is temporarily changing notification requirements for vessels bound for or departing from U.S. ports. This rule temporarily lengthens the usual notification period from 24 to 96 hours prior to port entry, requires submission of reports to a central national clearinghouse, suspends exemptions for vessels operating in compliance with the Automated Mutual Assistance Vessel Rescue System, for some vessels operating on the Great Lakes, and vessels on scheduled routes, and requires information about persons onboard these vessels. These changes are necessary to ensure receipt of comprehensive and timely information on vessels entering U.S. ports. They will help provide better security information and minimize delays in collecting that information.

DATES: This temporary final rule is effective from October 4, 2001 to June 15, 2002. Comments and related material must reach the Docket Management Facility on or before January 18, 2002.

ADDRESSES: To make sure your comments and related material are not entered more than once in the docket, please submit them by only one of the following means:

(1) By mail to the Docket Management Facility (USCG-2001-10689), U.S. Department of Transportation, room PL-401, 400 Seventh Street, SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

You must also mail comments on collection of information to the Office of Information and Regulatory Affairs, Office of Management and Budget, 725 17th Street NW., Washington, DC 20503, ATTN: Desk Officer, U.S. Coast Guard.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this rule, call LTJG Marcus A. Lines, U.S. Coast Guard (G-MMP), at 202-267-6854. If you have questions on viewing or submitting material to the docket, call Dorothy Beard, Chief, Dockets, Department of Transportation, at 202-366-5149.

SUPPLEMENTARY INFORMATION:

Request for Comments

We encourage you to participate in this rulemaking by submitting comments and related material. If you do so, please include your name and address, identify the docket number for this rulemaking (USCG-2001-10689), indicate the specific section of this document to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change this rule in view of them.

Public Meeting

We do not now plan to hold a public meeting. But you may submit a request for one to the Docket Management Facility at the address under ADDRESSES explaining why one would be beneficial. If we determine that one would aid this rulemaking, we will hold one at a time and place announced by a later notice in the Federal Register.

Regulatory Information

We did not publish a notice of proposed rulemaking (NPRM) for this rulemaking, and the rule takes effect immediately. The changes made by this temporary rule are specifically authorized under 33 U.S.C. 1223(a)(5) and 1226 as a response to the terrorist acts that occurred on September 11, 2001, and to prevent similar occurrences. They are necessary to ensure receipt of comprehensive and timely information on vessels entering U.S. ports, and they will help provide better security information and minimize delays in collecting that information. Therefore, delay in implementing these changes is contrary to the public interest, and the Coast Guard finds under 5 U.S.C. 553(b)(B) and (d)(3) that notice and comment rulemaking and advance publication are not required.

Background and Purpose

On September 11, 2001, terrorists hijacked four airliners. Three crashed into targets in New York City and Washington, D.C. The fourth airliner, although apparently aiming for Washington, crashed in Somerset County, Pennsylvania. These attacks killed thousands of people and heightened the need for security checks on all modes of travel, particularly those modes by which foreign nationals can enter the country. In the maritime context extra time is needed for security checks, and vessels bound for U.S. ports could experience delays in entering port if required arrival information is not received early enough. The information currently required on the notification of arrival (NOA) does not provide sufficient data for security measures to protect our nation's ports and waterways. The temporary changes made by this rule will help provide better security information and minimize delays in collecting that information.

Discussion of Temporary Rule

Under the present requirements of 33 CFR part 160, subpart C, owners, agents, masters, operators, or persons in charge of vessels bound for U.S. ports must file notices of arrival before they enter port. (Persons required to submit reports will hereafter be called “submitters.”) In general, the regulations apply to vessels greater than 300 gross tons—and to smaller foreign vessels entering the Seventh Coast Guard District—but there are several categories of exemption. Notices of arrival are also required for vessels and barges containing certain dangerous cargo, and submitters must file notices of departure (NODs) for these vessels and barges before they leave a port.

This rule:

• Changes submission times for NOAs;

• Changes where reports are submitted;

• Suspends exemptions from reporting requirements for some vessels;

• Requires additional information to be submitted on NOAs and NODs;

• Allows consolidated reports;

• Requires submitters to submit changes to previously reported information; and

• Changes the definition of certain dangerous cargo.

This temporary final rule does not change the provisions of 33 CFR 160.205. Therefore, any vessel that is unable to meet the reporting requirements set forth in this temporary final rule may request a waiver from the cognizant Captain of the Port.

Times for submission. Chart 1, below, summarizes the changes in submission times made by this rule.

Chart 1.—Time for Submission
Vessel type & voyage time | NOA—Initial report: Old | NOA—Initial report: New | NOD—Initial report: Old | NOD—Initial report: New | NOA—Changes: Old | NOA—Changes: New | NOD—Changes: Old | NOD—Changes: New
Vessels greater than 300 GT with a voyage time of 96 hours or greater | 24 hours 160.207 | At least 96 hours before entering each port of destination 160.T208 | None | None | None | As soon as practicable but no later than 24 hours before entering the port | None | None
Vessels greater than 300 GT voyage time less than 96 hours | 24 hours 160.207 | Before departing but no less than 24 hours before entering each port of destination 160.T208 | None | None | None | As soon as practicable but no later than 24 hours before entering the port | None | None
All vessels carrying dangerous cargo, except barges, with a voyage time of 96 hours or greater | 24 hours 160.211(a) | At least 96 hours before entering each port of destination 160.T212 | At least 24 hours unless notification was made within 2 hours of arrival 160.213 | Same— 160.T214 | None | As soon as practicable but no later than 24 hours before entering the port | None | Before departing
All vessels carrying dangerous cargo except barges with a voyage time of less than 96 hours | 24 hours 160.211(a) | Before departing but no less than 24 hours before entering each port of destination 160.T212 | At least 24 hours unless notification was made within 2 hours of arrival 160.213 | Same— 160.T214 | None | As soon as practicable but no later than 24 hours before entering the port | None | Before departing
All barges carrying dangerous cargo | 4 hours 160.211(b) | At least 12 hours before entering each port of destination 160.T212 | At least 4 hours before departing, unless notification was made within 2 hours of arrival 160.211(b) | Same— 160.T214 | None | As soon as practicable but no later than 12 hours before entering port | None | Before departing

NOA reports currently must be filed at least 24 hours prior to a vessel's entering port. The temporary rule increases that time to at least 96 hours, except for:

• Vessels, not carrying certain dangerous cargo, whose destination involves a voyage time of less than 96 hours' duration—these vessels must submit the NOA report before the vessel departs to begin its voyage, but not less than 24 hours before entering the port of destination;

• Vessels (except barges) carrying certain dangerous cargo whose destination involves a voyage time of less than 96 hours duration—these vessels must submit the NOA report before the vessel departs to begin its voyage, but not less than 24 hours before entering the port of destination; and

• Barges carrying certain dangerous cargo—currently reports for these barges must be filed at least 4 hours before entering the port of destination, and the temporary rule increases that time to at least 12 hours.

Vessels and barges carrying certain dangerous cargo are currently subject to NOD requirements. The submission times for these NODs—within two hours of arrival or at least four (for barges) or 24 hours (for other vessels) prior to departure—remain unchanged.

Reports submitted to central national clearinghouse. Most NOA and NOD reports will go to the new National Vessel Movement Center (NVMC) instead of to individual Captains of the Port (COTPs). The NVMC will reformat the reported data and distribute it immediately to cognizant COTPs. NOA reports for foreign vessels of 300 gross tons or less operating in the Seventh Coast Guard District must continue to be sent to cognizant COTPs.

Exemptions suspended. This temporary rule suspends existing exemptions so that Canadian-flag and some U.S. vessels operating on the Great Lakes, vessels on scheduled routes, and vessels entering U.S. ports in compliance with the Automated Mutual Assistance Vessel Rescue System (AMVER) are required to submit NOA reports.

New information required. Submitters must provide the following information in addition to the information currently required on NOAs and NODs:

• A general description of the vessel's cargo, e.g. grain, containers, oil, etc.;

• The date of departure from each port listed in the NOA. Estimated dates can be reported initially, with actual dates reported prior to each departure;

• Location or position information for reports filed for vessels not carrying certain dangerous cargo;

• Lists of every person on board the vessel. One list must be submitted for crewmembers and one for non-crewmembers including passengers. The lists must contain basic information about the person: name, date of birth, nationality, and (for crewmembers) position or duties on board ship. Many vessels already provide this information for use by the Immigration and Naturalization Service (INS) and can use INS reports to satisfy this new requirement.

Consolidated reporting. Submitters currently have to file separate NOA reports with the COTPs for each U.S. port their vessels intend to enter. This temporary rule allows submitters to file a single report listing all consecutive U.S. destinations during the voyage, along with estimated arrival dates for each port; but a vessel carrying dangerous cargo must notify the NVMC whenever it leaves a port listed in its NOA report.

Changes to submitted reports. Currently we do not require submitters to notify COTPs when information submitted in an NOA or NOD changes. This temporary rule requires submitters to notify the NVMC (or the COTP in the case of smaller foreign vessels in the Seventh District) when previously-submitted information changes. For example, a submitter must report the actual date of departure in place of the estimated date.

See Chart 1, above, for the submission times applicable to reporting changes. Changes to NOAs must be reported as soon as practicable but no less than 24 hours (12 hours for barges) prior to entering port. Changes to NODs must be reported prior to a vessel's departure. When reporting changes, submitters only have to report the information that is being added, deleted, or altered. A complete resubmission of all information is not necessary. Submitters only need to report changes in a vessel's arrival or departure time if the previously-reported date changes, or if a previously-reported time changes by six hours or more.

Definition of certain dangerous cargo. The 33 CFR 160.203 definition of certain dangerous cargo is being changed, to accomplish two objectives. First, the changes clarify the existing definition by consolidating Coast Guard and Research and Special Programs Administration (RSPA) requirements for certain Division 1.5 materials that may be allowed to be transported only under a RSPA exemption. Additionally, UN hazardous class division numbers are added to further clarify the products subject to this regulation. Second, the changes add certain hazardous material products the Coast Guard believes pose an undue risk to the public if these products were to be hijacked or subjected to intentional damage.

Regulatory Evaluation

This temporary rule is not a “significant regulatory action” under section 3(f) of Executive Order 12866, Regulatory Planning and Review, and does not require an assessment of potential costs and benefits under section 6(a)(3) of that Order. It has been reviewed by the Office of Management and Budget under that Order. It is not “significant” under the regulatory policies and procedures of the Department of Transportation (DOT) (44 FR 11040, February 26, 1979).

We expect the economic impact of this rule to be so minimal that a full Regulatory Assessment under paragraph 10e of the regulatory policies and procedures of DOT is unnecessary; however, a Regulatory Assessment has been prepared and may be viewed in the docket for this project. Existing NOA regulations require vessels greater than 300 gross tons to provide the COTP of the vessel's port of arrival with specific information about the vessel and its voyage 24 hours before arriving in any U.S. port. Vessels that meet AMVER requirements, some vessels operating on the Great Lakes, and vessels on scheduled routes are exempt from the NOA reporting requirements in 33 CFR 160.207. As described in the “discussion of temporary rule” section of this preamble, the Coast Guard is temporarily changing NOA regulations. We estimate that providing the Coast Guard with the additional information about passengers, crew, and cargo will impose minimal burden on vessels already complying with the notification requirements of 33 CFR part 160, subpart C. By suspending some exemptions, the new rule imposes a heavier burden on vessels that are exempt under existing regulations but that now will be required to file NOA reports in accordance with § 160.T208. As explained below, the total cost of this temporary rule should not exceed $565,986:

Cost and Burden. Coast Guard data on Notification of Arrival information for 1998 and 1999 were used to estimate the maximum populations affected by this temporary rule. Table 1 categorizes the affected vessel population into four sub-populations. They are:

• “Non-AMVER/Non-Great Lakes Vessels”—vessels already required to comply with NOA regulations;

• “AMVER”—vessels complying with the Automated Mutual Assistance Vessel Rescue system and exempt from NOA requirements under existing regulations;

• “Great Lakes Vessels”—vessels greater than 300 gross tons, on Great Lakes routes, that are exempt from NOA requirements under existing regulations; and

• “Vessels on Scheduled Routes”—vessels operating upon a route that is described in a schedule that is submitted to the Captain of the Port for each port or place of destination listed in the schedule. The table also sets out the number of vessels and their total number of U.S. port calls (arrivals) for each vessel sub-population.

Table 1.—Number of Vessels and U.S. Port Calls for 1998 and 1999
| 1998 | 1999 | Annual average | Monthly average
Non-AMVER/Non-Great Lakes:
Vessels | 9,795 | 9,538 | 9,667 | NA
U.S. Port Calls | 63,090 | 63,482 | 63,286 | 5,274
AMVER:
Vessels | 625 | 609 | 617 | NA
U.S. Port Calls | 4,027 | 4,052 | 4,040 | 337
Great Lakes:
Vessels | 83 | 82 | 83 | NA
U.S. Port Calls | 840 | 786 | 813 | 68
Totals:
Vessels | 10,503 | 10,229 | 10,367 | NA
U.S. Port Calls | 67,957 | 68,320 | 68,139 | 5,679
* These estimates include vessels on scheduled routes that will experience about the same costs as the other vessels in this population.

Currently, vessels less than 300 gross tons making ports of call in the Seventh Coast Guard District have to file NOA reports with the COTP. The temporary rule maintains this requirement, and the estimate of the vessels and port calls presented in Table 1 accounts for this special group. Additionally, under the current rule vessels have to file multiple NOA reports if they are visiting multiple U.S. ports on the same voyage. Under the temporary rule, vessels that make calls to multiple U.S. ports will not have to file multiple NOA reports; rather, the temporary rule allows a single report listing all destinations in the United States along with estimated arrival dates for each port. The Coast Guard does not currently collect or maintain information on how many vessels make multiple U.S. port calls under separate NOA reports to estimate the number of consolidated reports under the temporary rule. The totals above, therefore, represent a conservative estimate, a “worst-case scenario,” of the numbers of vessels and NOA reports that will be affected by the temporary rule. Finally, vessels that make scheduled trips outside of their COTP zones will no longer be exempt from NOA requirements. We do not know how many of these vessels and port calls exist, though we know they are included in the population of non-AMVER/non-Great Lakes vessels. Additionally, we know their requirements are virtually identical to new requirements for non-AMVER/non-Great Lakes vessels; for the purposes of analysis, these vessels and port calls are included in the non-AMVER/non-Great Lakes population.

Cost of the Temporary Rule

For vessels covered by the current NOA rule, providing the Coast Guard with a list of the crew and a list of persons in addition to the crew will impose minimal burden, since this information is already collected on a form submitted to INS (INS form I-418). Vessels that were previously exempt from NOA requirements, however, will now have to provide the Coast Guard with NOA reports in addition to providing the crew/persons-in-addition-to-the-crew lists. Also, all vessels will now need to submit a brief description of the cargo on board.

For non-exempt vessels that were covered by the current NOA rulemaking or similar requirements (non-AMVER/non-Great Lakes, vessels on scheduled routes), we assume 10 minutes (0.167 hours) will be spent retrieving and transmitting the crew/persons-in-addition-to-the-crew lists and writing the paragraph concerning cargo. We assume that there will be a $2 transmittal fee (fax, email, telephone, etc.) to provide this information to the Coast Guard. We assume that clerical labor will complete these tasks at a cost of $31.00 per hour (loaded labor rate, 2001). Based on 1998 and 1999 data, we assume an average of 5,274 port calls are made each month, which means an estimated 47,466 port calls will be made over the time period of this rulemaking (9 months-until June 15, 2002). The summary of unit costs and total rulemaking costs for non-AMVER/non-Great Lakes vessels is presented in Table 2.

Table 2.—Total Rulemaking Costs for Non-AMVER/Non-Great Lakes Vessels
[October 2001-June 2002]
Port Calls during Temporary Rule | Labor Hours per Port Call | Labor Hours during Temporary Rule | Cost per Labor Hour | Cost per Information Transmittal | Total Rulemaking Cost for These Vessels
47,466 | 0.167 | 7,911 | $31.00 | $2.00 | $340,173
Detail may not calculate to total due to independent rounding.
*These estimates include vessels on scheduled routes that will experience about the same costs as the other vessels in this population.

Previously exempt vessels (AMVER and vessels that transit only the Great Lakes) will incur the new cost of an NOA report, since they have not had to complete or submit this documentation in the past. Based on the current, OMB-approved Collection of Information for NOA (OMB-2115-0557), we estimate that it will take 10 minutes (0.167 hours) to complete the report, plus an additional 5 minutes (0.083 hours) for the general description of the cargo. We assume that clerical labor will complete the report at a cost of $31.00 per hour. Additionally, these vessels will need to develop and submit the crew/persons-in-addition-to-the-crew lists, which they did not previously have to complete. Based on information from the INS (OMB-1115-0083), it will require 60 minutes (1.000 hour) to complete the lists, for a total of 75 minutes (1.250 hours) for the entire submission (NOA report, cargo description, and crew/persons-in-addition-to-the-crew lists). There will be a $2 transmittal fee to provide the information to the Coast Guard. Based on 1998 and 1999 data, we assume an average of 405 port calls are made by this population of vessels each month, which means an estimated 3,645 port calls will be made over the time period of this rulemaking. The summary of unit costs and total rulemaking costs for AMVER/Great Lakes vessels is presented in Table 3.

Table 3.—Total Rulemaking Costs for AMVER/Great Lakes Vessels
[October 2001-June 2002]
Port Calls during Temporary Rule | Labor Hours per Port Call | Labor Hours during Temporary Rule | Cost per Labor Hour | Cost per Information Transmittal | Total Rulemaking Cost for These Vessels
3,645 | 1.250 | 4,549 | $31.00 | $2.00 | $148,305
Detail may not calculate to total; due to independent rounding.

Finally, all vessels affected will need to communicate with the National Vessel Movement Center (NVMC) upon departure from a U.S. port when their next port of call is also a U.S. port. Vessels will phone or fax the date of departure to the NVMC along with the name of the port just departed. The NVMC will transmit this information to the COTP in the next port of call. We assume this will require 1 minute (0.017 hours) per departure and clerical labor ($31.00 per hour) will make the call or send the fax. We assume the transmittal fee will be $1.00 per call/fax. There are an estimated 5,679 departures each month, which corresponds to the equal number of monthly arrivals. There will be an estimated 51,111 departures over the 9-month period of the temporary rule (until June 15, 2002). The cost and burden for notifying NVMC of the date of departure and last port of call is presented in Table 4.

Table 4.—Total Rulemaking Costs for Providing NVMC with Date of Departure and Last Port of Call Information
[October 2001-June 2002]
Port Departures during Temporary Rule | Labor Hours per Port Call | Labor Hours during Temporary Rule | Cost per Labor Hour | Cost per Information Transmittal | Total Rulemaking Cost for These Vessels
51,111 | 0.017 | 852 | $31.00 | $1.00 | $77,508
Detail may not calculate to total; due to independent rounding.

The total cost and burden of the rule is presented in Table 5.

Table 5.—Total Rulemaking Cost for All Affected Vessels [October 2001-June 2002]
| Arrivals/Departures | Cost per Arrival/ Departure | Burden per Arrival/ Departure (hours) | Total Rulemaking Cost | Total Rulemaking Burden
Arr. Non-AMVER/Non-Great Lakes | 47,466 | $7.17 | 0.167 | $340,173 | 7,911
Arr. AMVER/Great Lakes | 3,645 | 40.75 | 1.250 | 148,305 | 4,549
Dep. all vessels | 51,111 | 1.52 | 0.017 | 77,508 | 852
Totals | 102,222 |  |  | $565,986 | 13,312
Detail may not calculate to total due to independent rounding.
* These estimates include vessels on scheduled routes that will experience about the same costs as the other vessels in this population.

The temporary rule is expected to divert current Coast Guard resources without any real change in operating costs. No new costs for the Coast Guard are anticipated.

Need for the Temporary Rule

This rule will ensure the timely receipt of advance information about vessels and people entering U.S. ports and will help minimize disruption to commerce. The additional information required by this temporary rule will increase security and provide protection for the nation's ports and waterways. There will be some savings from the consolidated NOA submission for two or more consecutive arrivals at U.S. call.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule was not preceded by a general notice of proposed rulemaking and, therefore, is exempt from the requirements of the Regulatory Flexibility Act. Although this rule is exempt, we have reviewed it for potential economic impact on small entities.

Therefore, the Coast Guard certifies under 5 U.S.C. 605(b) that this rule will not have a significant economic impact on a substantial number of small entities. If you think that your business, organization, or governmental jurisdiction qualifies as a small entity and that this rule will have a significant economic impact on it, please submit a comment to the Docket Management Facility at the address under ADDRESSES. In your comment, explain why you think it qualifies and how and to what degree this rule would economically affect it.

Assistance for Small Entities

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule modifies an existing collection of information under the Paperwork Reduction Act of 1995 (44 U.S.C. 3501-3520). As defined in 5 CFR 1320.3(c), “collection of information” comprises reporting, recordkeeping, monitoring, posting, labeling, and other, similar actions. The title and description of the information collection, a description of those who must collect the information, and an estimate of the total annual burden follow. The estimate covers the time for reviewing instructions, searching existing sources of data, gathering and maintaining the data needed, and completing and reviewing the collection.

Title: Advance Notice of Vessel Arrival and Departure.

OMB Control Number: 2115-0557.

Summary of the Collection of Information: The Coast Guard requires pre-arrival messages from any vessel entering a port or place in the United States. This rule will amend 33 CFR part 160 to temporarily require:

• earlier receipt of the notice of arrival—96 hours instead of 24 hours—from vessels currently required to provide advance notification of arrival;

• notice of arrival reports to be submitted to a central clearinghouse, the National Vessel Movement Center;

• suspend the current exemption from notice of arrival reporting requirements for vessels operating in compliance with the Automated Mutual Assistance Vessel Rescue System, some vessels operating on the Great Lakes, and vessels on scheduled routes; and

• require crew lists, passenger lists, and general description of cargo to be provided as additional items in the notice of arrival report.

The temporary changes will be in effect until June 15, 2002.

Need for Information: To ensure port safety and security and to ensure the uninterrupted flow of commerce, the Coast Guard must temporarily change regulations relating to the Notifications of Arrival requirements.

Proposed use of Information: This information is required to control vessel traffic, develop contingency plans, and enforce regulations.

Description of the Respondents: The respondents are owners, agents, masters, operators, or persons in charge of vessels bound for or departing from U.S. ports.

Number of Respondents: The existing OMB-approved collection number of respondents is 9,834. This temporary rule will increase the number of respondents by 533 to a total of 10,367.

Frequency of Response: The existing OMB-approved collection annual number of responses is 126,722. This temporary rule will increase the number of responses by 9,556 to a total of 136,278.

Burden of Response: The existing OMB-approved collection burden of response is 10 minutes (0.167 hours). This temporary rule will increase the burden of response by 5 minutes (0.083 hours) to a total of 15 minutes (0.250 hours).

Estimate of Total Annual Burden: The existing OMB-approved collection total annual burden is 21,288 hours. This temporary rule will increase the total annual burden by 17,749 hours to a total of 39,037 hours.

As required by the Paperwork Reduction Act of 1995 (44 U.S.C. 3507(d)), we submitted a copy of this rule to the Office of Management and Budget (OMB) for its review of the collection of information. Due to the circumstances surrounding this temporary rule, we asked for “emergency processing” of our request. We received OMB approval for the collection of information on September 26, 2001. It is valid until March 31, 2002.

We ask for public comment on the collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. We received OMB approval for the collection of information on September 26, 2001. It is valid until March 31, 2002.

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, the effects of this rule are discussed elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this rule might impact tribal governments, even if that impact may not constitute a “tribal implication” under the Order.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34)(a), of Commandant Instruction M16475.lD, this rule is categorically excluded from further environmental documentation. This temporary final rule changes the requirements established in the notification of arrival regulations. They are procedural in nature and therefore are categorically excluded. A “Categorical Exclusion Determination” is available in the docket where indicated under ADDRESSES.

List of Subjects in 33 CFR Part 160

Administrative practice and procedure; Harbors; Hazardous materials transportation; Marine safety; Navigation (water); Reporting and recordkeeping requirements; Vessels; Waterways.

For the reasons discussed in the preamble, the Coast Guard amends 33 CFR part 160 as follows:

PART 160—PORTS AND WATERWAYS SAFETY—GENERAL

Subpart C—Notifications of Arrival, Departures, Hazardous Conditions, and Certain Dangerous Cargoes

1. The authority citation for part 160 is revised to read as follows:

Authority: 33 U.S.C. 1223, 1226, 1231; 49 CFR 1.46.

2. In § 160.201, temporarily suspend paragraph (c) and (d), and temporarily add paragraphs (e), (f), and (g) to read as follows:

§ 160.201 Applicability and exceptions to applicability.

* * * * *

(e) Section 160.T208 does not apply to the following:

(1) Each vessel of 300 gross tons or less, except a foreign vessel of 300 gross tons or less entering any port or place in the Seventh Coast Guard District as described by § 3.35-1(b) of this chapter.

(2) Each vessel operating exclusively within a Captain of the Port zone.

(3) [Reserved]

(4) Each vessel arriving at a port or place under force majeure.

(5) [Reserved]

(6) Each barge.

(7) Each public vessel.

(8) [Reserved].

(9) U.S. vessels, except tank vessels, operating solely between U.S. ports on the Great Lakes.

(f) Sections 160.T212 and 160.T214 apply to each vessel arriving at or departing from a port or place in the United States carrying certain dangerous cargo. A vessel submitting a notice of arrival under § 160.T212 need not submit another notice as required in § 160.T208.

(g) Sections 160.T208, 160.T212, and 160.T214 apply to each vessel upon the waters of the Mississippi River between its mouth and mile 235, Lower Mississippi River, above Head of Passes. Sections 160.207, 160.211, and 160.213 do not apply to each vessel upon the waters of the Mississippi River between its sources and mile 235, above Head of Passes, and all the tributaries emptying thereinto and their tributaries, and that part of the Atchafalaya River above its junction with the Plaquemine-Morgan City alternate waterway, and the Red River of the North.

3. In § 160.203, temporarily suspend the definition of “Certain dangerous cargo”, and temporarily add in alphabetic order new definitions for “Certain dangerous cargo,” “Crewmember”, “Nationality”, and “Persons in addition to crewmembers” to read as follows:

§ 160.203 Definitions.

* * * * *

Certain dangerous cargo includes any of the following:

(a) Division 1.1 or 1.2, explosive materials, as defined in 49 CFR 173.50.

(b) Division 5.1, Oxidizing materials, or Division 1.5, blasting agents, for which a permit is required under 49 CFR 176.415, or for which a permit is required as a condition of a Research and Special Programs Administration exemption.

(c) Division 4.3, Spontaneously Combustible products in excess of 60 metric tons per vessel.

(d) Division 6.1, Poison-Inhalation Hazard, products in bulk packagings.

(e) Class 7, highway route controlled quantity radioactive material, or fissile material, controlled shipment, as defined in 49 CFR 173.403.

(f) Each cargo under Table 1 of 46 CFR part 153 when carried in bulk.

(g) Each cargo under Table 4 of 46 CFR part 154 when carried in bulk.

(h) Butylene Oxide, Chlorine, and Phosphorous, elemental when carried in bulk.

Crewmember means all persons carried on board the vessel to provide navigation and maintenance of the vessel, its machinery, systems, and arrangements essential for propulsion and safe navigation or to provide services for other persons on board.

* * * * *

Nationality means the state (nation) in which a person is a citizen or to which a person owes permanent allegiance.

* * * * *

Persons in addition to crewmembers means any person onboard the vessel, including passengers, who are not included on the list of crewmembers.

* * * * *

4. A new temporary § 160.T204 is added to read as follows:

§ 160.T204 Reporting of notification of arrival and Notification of departure.

(a)(1) Until October 15, 2001, all vessels required to report the information in § 160.T208, § 160.T212, or § 160.T214, must submit the report to the cognizant Captain of the Port (COTP).

(2) From October 15, 2001, until June 15, 2002, all vessels required to report notice of arrival and departure information in §§ 160.T208, 160.T212, or 160.T214, other than vessels 300 or less gross tons operating in the Seventh Coast Guard District, must submit the notice to the National Vessel Movement Center (NVMC), United States Coast Guard, 408 Coast Guard Drive, Kearneysville, W.V., 25430, by:

(i) Telephone at 1-800-708-9823;

(ii) Fax at 1-800-547-8724; or

(iii) E-mail at SANS@NVMC.USCG.gov.

Note to paragraph (a):

Information about the National Vessel Movement Center is available on its website at http://www.nvmc.uscg.gov/.

(b) Those vessels 300 or less gross tons operating in the Seventh Coast Guard District required by § 160.T208, § 160.T212, or § 160.T214 to report notice of arrival and departure information must submit the notice to the cognizant Captain of the Port (COTP).

§ 160.207 [Suspended]

5. Temporarily suspend § 160.207.

6. A new temporary § 160.T208 is added to read as follows:

§ 160.T208 Notice of arrival: Vessels bound for ports or places in the United States.

(a) The owner, agent, master, operator, or person in charge of a vessel on a voyage of 96 hours or more must submit the information under paragraph (c) of this section at least 96 hours before entering the port or place of destination.

(b) The owner, agent, master, operator, or person in charge of a vessel on a voyage of less than 96 hours must submit the information under paragraph (c) of this section prior to departing the port or place of departure, but no less than 24 hours before entering the port or place of destination.

(c) The following information must be submitted as prescribed by § 160.T204:

(1) Name of port(s) or place(s) of destination in the United States;

(2) Estimated date and time of arrival at each port or place;

(3) Name of the vessel;

(4) Country of registry of the vessel;

(5) Call sign of the vessel;

(6) International Maritime Organization (IMO) international number or, if the vessel does not have an assigned IMO international number, the official number of the vessel;

(7) Name of the registered owner of the vessel;

(8) Name of the operator of the vessel;

(9) Name of the classification society of the vessel;

(10) General description of cargo onboard the vessel (e.g.: grain, container, oil, etc.);

(11) Date of departure and name of the port from which the vessel last departed;

(12) Name and telephone number of a 24-hour point of contact for each port included in the notice of arrival;

(13) Location or position of the vessel at the time of the report;

(14) A list of crewmembers onboard the vessel. The list must include the following information for each person:

(i) Full name;

(ii) Date of birth;

(iii) Nationality;

(iv) Passport number or mariners document number; and

(v) Position or duties on the vessel;

(15) A list of persons in addition to the crew onboard the vessel. The list must include the following information for each person:

(i) Full name;

(ii) Date of birth;

(iii) Nationality; and

(iv) Passport number.

(d) You may submit a copy of INS Form I-418 to meet the requirements of paragraphs (c)(14) and (c)(15) of this section.

(e)(1) Any changes to the information required by paragraphs (c) or (h) of this section must be reported as soon as practicable but no less than 24 hours before entering the port of destination.

(2) Any changes to the arrival time or the departure time in a submitted notice of arrival (NOA) that are less than six (6) hours need not be reported.

(3) When reporting changes, only report specific items to be corrected in the submitted NOA report. Do not resubmit the entire NOA report.

(f) International Safety Management (ISM) Code (Chapter IX of SOLAS) Notice. If you are the owner, agent, master, operator, or person in charge of a vessel that is 500 gross tons or more and engaged on a foreign voyage to the United States, you must provide the ISM Code notice described in paragraph (g) as follows:

(1) ISM Code notice beginning January 26, 1998, if your vessel is—a passenger vessel carrying more than 12 passengers, a tank vessel, a bulk freight vessel, or a high-speed freight vessel.

(2) ISM Code notice beginning July 1, 2002, if your vessel is—a freight vessel not listed in paragraph (f)(1) of this section or a self-propelled mobile offshore drilling unit (MODU).

(g) ISM Code notice includes the following:

(1) The date of issuance for the company's Document of Compliance certificate that covers the vessel.

(2) The date of issuance for the vessel's Safety Management Certificate, and,

(3) The name of the Flag Administration, or the recognized organization(s) representing the vessel flag administration, that issued those certificates.

(h) Any vessel planning to enter two or more consecutive ports or places in the United States during a single voyage may submit one consolidated Notification of Arrival at least 96 hours before entering the port or place of destination. The consolidated notice must include the port name and estimated arrival date for each destination of the voyage. Any vessel submitting a consolidated notice under this section must still meet the requirements of paragraph (e) of this section concerning changes to required information.

§ 160.211 [Suspended]

7. Temporarily suspend § 160.211.

8. A new temporary § 160.T212 is added to read as follows:

§ 160.T212 Notice of arrival: Vessels carrying certain dangerous cargo.

(a)(1) The owner, agent, master, operator, or person in charge of a vessel, other than a barge, carrying certain dangerous cargo that is bound for a port or place in the United States that is 96 hours or more away from the vessel's port of departure must report the information in paragraph (b) of this section at least 96 hours before entering the port or place of destination; or

(2) The owner, agent, master, operator, or person in charge of a vessel, other than a barge, carrying certain dangerous cargo that is bound for a port or place in the United States that is less than 96 hours away from the vessel's port of departure must report the information in paragraph (b) of this section prior to departing the port or place of departure, but no less than 24 hours before entering the port or place of destination.

(b) The following information must be submitted as prescribed by § 160.T204:

(1) Name of port(s) or place(s) of destination in the United States;

(2) Estimated date and time of arrival at each port or place;

(3) Name of the vessel;

(4) Country of registry of the vessel;

(5) Call sign of the vessel;

(6) International Maritime Organization (IMO) international number or, if the vessel does not have an assigned IMO international number, the official number of the vessel;

(7) Name of the registered owner of the vessel;

(8) Name of the operator of the vessel;

(9) Name of the classification society of the vessel;

(10) Date of departure and name of the port from which the vessel last departed;

(11) Name and telephone number of a 24-hour point of contact for each port included in the notice of arrival;

(12) Location or position of the vessel at the time of the report;

(13) Name of each of the certain dangerous cargoes carried;

(14) Amount of each of the certain dangerous cargoes carried;

(15) Stowage location of each of the certain dangerous cargoes carried;

(16) General description of cargo, other than dangerous cargoes, onboard the vessel;

(17) Operational condition of the equipment under § 164.35 of this chapter;

(18) A list of crewmembers onboard the vessel. The list must include the following information for each person:

(i) Full name;

(ii) Date of birth;

(iii) Nationality;

(iv) Passport number or mariners document number; and

(v) Position or duties on the vessel;

(19) A list of persons in addition to the crew onboard the vessel. The list must include the following information for each person:

(i) Full name;

(ii) Date of birth;

(iii) Nationality; and

(iv) Passport number; and

(c) You may submit a copy of INS Form I-418 to meet the requirements of paragraphs (b)(18) and (b)(19) of this section.

(d)(1) Any changes to the information required by paragraphs (b) or (f) of this section must be reported as soon as practicable but no less than 24 hours before entering the port of destination.

(2) Any changes to the information required by paragraph (e) of this section must be reported as soon as practicable but no less than 12 hours before entering the port of destination.

(3) Any changes to the arrival time or the departure time in a submitted notice of arrival (NOA) that are less than six (6) hours need not be reported.

(4) When reporting changes, only report specific items to be corrected in the submitted NOA report. Do not resubmit the entire NOA report.

(e) The owner, agent, master, operator, or person in charge of a barge bound for a port or place in the United States carrying certain dangerous cargo shall report the information required in paragraphs (b)(1) through (b)(6) and (b)(10) through (b)(19) of this section as prescribed by § 160.T204 at least 12 hours before entering that port or place.

(f) Any vessel planning to enter two or more consecutive ports or places in the United States during a single voyage may submit one consolidated Notification of Arrival at least 96 hours before entering the first U.S. port or place of destination. The consolidated notice must include the port name and estimated arrival date for each destination of the voyage. Any vessel submitting a consolidated notice under this section must still meet the requirements of paragraphs (d) of this section concerning changes to required information.

§ 160.213 [Suspended]

9. Temporarily suspend § 160.213.

10. A new temporary § 160.T214 is added to read as follows:

§ 160.T214 Notice of departure: Vessels carrying certain dangerous cargo.

(a) The owner, agent, master, operator, or person in charge of a vessel, except a barge, departing from a port or place in the United States for any other port or place and carrying certain dangerous cargo, must submit a notice of departure as prescribed by § 160.T204 at least 24 hours before departing, unless this notification was made within 2 hours after the vessel's arrival, of the:

(1) Name of port(s) or place(s) of destination in the United States;

(2) Estimated date and time of arrival at each port or place;

(3) Name of the vessel;

(4) Country of registry of the vessel;

(5) Call sign of the vessel;

(6) International Maritime Organization (IMO) international number or, if the vessel does not have an assigned IMO international number, the official number of the vessel;

(7) Name of the registered owner of the vessel;

(8) Name of the operator of the vessel;

(9) Name of the classification society of the vessel;

(10) Date and time of departure and name of the port from which the vessel last departed;

(11) Name and telephone number of a 24-hour point of contact for each port included in the notice of arrival;

(12) Location or position of the vessel at the time of the report;

(13) Name of each of the certain dangerous cargoes carried;

(14) Amount of each of the certain dangerous cargoes carried;

(15) Stowage location of each of the certain dangerous cargoes carried;

(16) General description of cargo, other than dangerous cargoes, onboard the vessel;

(17) Operational condition of the equipment under § 164.35 of this chapter;

(18) A list of crewmembers onboard the vessel. The list must include the following information for each person:

(i) Full name;

(ii) Date of birth;

(iii) Nationality;

(iv) Passport number or mariners document number; and

(v) Position or duties on the vessel;

(19) A list of persons in addition to the crew onboard the vessel. The list must include the following information for each person:

(i) Full name;

(ii) Date of birth;

(iii) Nationality; and

(iv) Passport number; and

(b) You may submit a copy of INS Form I-418 to meet the requirements of paragraphs (a)(18) and (a)(19) of this section.

(c)(1) Any changes to the information required by paragraph (a) of this section must be reported prior to departing.

(2) Any changes to the arrival time or the departure time in a submitted notice of departure (NOD) that are less than six (6) hours need not be reported.

(3) When reporting changes, only report specific items to be corrected in the submitted NOD report. Do not resubmit the entire NOD report.

(d) The owner, agent, master, operator, or person in charge of a barge departing from a port or place in the United States for any other port or place and carrying certain dangerous cargo shall report the information required in paragraphs (a)(1) through (a)(6) and (a)(10) through (19) of this section as prescribed by § 160.T204 at least 4 hours before departing, unless this report was made within 2 hours after the barge's arrival.

Dated: October 1, 2001.
Paul J. Pluta,
Rear Admiral, USCG, Assistant Commandant for Marine Safety and Environmental Protection.

[FR Doc. 01-24984 Filed 10-2-01; 11:29 am]

BILLING CODE 4910-15-P